DEPARTMENT OF COMMERCE

National Oceanic and Atmospheric Administration

50 CFR Part 660

RIN 0648-XD339

Fisheries Off West Coast States; Coastal Pelagic Species Fisheries; Amendment 14 to the Coastal Pelagic Species Fishery Management Plan

AGENCY: National Marine Fisheries Service (NMFS), National Oceanic and Atmospheric Administration (NOAA), Commerce.

ACTION: Notice of availability of an amendment to a fishery management plan; request for comments.

SUMMARY: NMFS announces that the Pacific Fishery Management Council (Council) has submitted Amendment 14 to the Coastal Pelagic Species (CPS) Fishery Management Plan (FMP) for review by the Secretary of Commerce. The purpose of Amendment 14 is to specify an estimate of maximum sustainable yield (MSY) for the northern subpopulation of northern anchovy in the CPS FMP.

DATES: Comments on Amendment 14 must be received by February 23, 2015.

ADDRESSES: You may submit comments on this document, identified by NOAA-NMFS-2014-0156, by any of the following methods:

• Electronic Submissions: Submit all electronic public comments via the Federal e-Rulemaking Portal. Go to www.regulations.gov/#!docketDetail;D=NOAA-NMFS-2014-0156, click the “Comment Now!” icon, complete the required fields, and enter or attach your comments.

• Mail: Submit written comments to William W. Stelle, Jr., Regional Administrator, West Coast Region, NMFS, 7600 Sand Point Way NE., Seattle, WA 98115-0070; Attn: Joshua Lindsay.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

Copies of the draft CPS FMP as Amended through Amendment 14, with notations showing how Amendment 14 would change the FMP, if approved, are available from Donald O. McIssac, Executive Director, Pacific Fishery Management Council, 7700 NE Ambassador Place, Suite 101, Portland, OR 97220-1384 or the NMFS West Coast Region (William W. Stelle, Jr. or Joshua Lindsay).

FOR FURTHER INFORMATION CONTACT: Joshua B. Lindsay, Sustainable Fisheries Division, NMFS, at 562-980-4034; or Kerry Griffin, Pacific Fishery Management Council, at 503-820-2280.

SUPPLEMENTARY INFORMATION: The CPS fishery in the U.S. exclusive economic zone (EEZ) off the West Coast is managed under the CPS FMP, which was developed by the Council pursuant to the MSA, 16 U.S.C. 1801 et seq. Species managed under the CPS FMP include Pacific sardine, Pacific mackerel, jack mackerel, northern anchovy, market squid and krill. The CPS FMP was approved by the Secretary of Commerce and was implemented by regulations at 50 CFR part 660, subpart I.

The MSA requires each regional fishery management council to submit any amendment to an FMP to NMFS for review and approval, disapproval, or partial approval. The MSA also requires that NMFS, upon receiving an amendment to an FMP, publish notification in the Federal Register that the amendment is available for public review and comment. NMFS will consider the public comments received during the comment period described above in determining whether to approve, disapprove, or partially approve Amendment 14.

At the November 2013 Council meeting, the Council adopted an FMSY of 0.3 as the best estimate of MSY for the northern subpopulation of northern anchovy and agreed to amend the CPS FMP accordingly to include this reference point. This action was based on data compiled by the CPS Management Team and a recommendation by the Council's Science and Statistical Committee (SSC). An FMSY equal to 0.3, the default exploitation rate for Pacific mackerel, a stock for which more information is known regarding stock variability and productivity, was deemed an appropriate specification of MSY by the SSC. Based on available information regarding northern anchovy, they are likely to be at least as productive as Pacific mackerel, and likely have higher natural mortality, which would typically be associated with a higher FMSY. Speaking further to their recommendation of the FMSY, the SSC stated that due to both high uncertainty in the available biomass estimates and large fluctuations in stock biomass that are known to occur in species such as anchovy, a fixed biomass-based approach to specifying MSY would likely not be appropriate. Additionally, because the northern subpopulation of northern anchovy is lightly fished, with inconsistent effort over time, the existing time series of catch was likely an unreliable indicator of stock status and therefore determining a catch-based MSY would not be meaningful.

Public comments on Amendment 14 must be received by February 23, 2015 to be considered by NMFS in the decision whether to approve, disapprove, or partially approve Amendment 14. All comments received during the comment period for the amendment will be considered in the approval/disapproval decision.

Authority: 16 U.S.C. 1801 et seq.

Dated: December 19, 2014.
Samuel D. Rauch III,
Deputy Assistant Administrator for Regulatory Programs, National Marine Fisheries Service.

[FR Doc. 2014-30268 Filed 12-23-14; 8:45 am]

BILLING CODE 3510-22-P